DEPARTMENT OF COMMERCE

[C-570-127]

Certain Non-Refillable Steel Cylinders From the People's Republic of China: Postponement of Preliminary Determination in the Countervailing Duty Investigation

AGENCY: Enforcement and Compliance, International Trade Administration, Department of Commerce.

DATES: Applicable June 2, 2020.

FOR FURTHER INFORMATION CONTACT: Stephanie Moore, AD/CVD Operations, Enforcement and Compliance, International Trade Administration, U.S. Department of Commerce, 1401 Constitution Avenue NW, Washington, DC 20230; telephone: (202) 482-3692.

SUPPLEMENTARY INFORMATION:

Background

On April 16, 2020, the Department of Commerce (Commerce) initiated a countervailing duty (CVD) investigation of imports of certain non-refillable steel cylinders from the People's Republic of China.¹ Currently, the preliminary determination is due no later than June 22, 2020.

¹ See Certain Non-Refillable Steel Cylinders from the People's Republic of China: Initiation of Countervailing Duty Investigation, 85 FR 22407 (April 22, 2020).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.²

² See 19 CFR 351.205(e).

On May 22, 2020, the petitioner in this investigation ³ submitted a timely request that Commerce postpone the preliminary CVD determination.⁴ According to the petitioner, additional time is necessary to allow Commerce to analyze fully the questionnaire responses, request any necessary clarifications, and determine the extent to which countervailable subsidies have benefited the respondents in the preliminary phase of this proceeding.⁵ Consistent with 19 CFR 351.205(e), the petitioner stated the reasons for its request, and Commerce finds no compelling reason to deny the request. Therefore, in accordance with section 703(c)(1)(A) of the Act, Commerce is postponing the deadline for the preliminary determination to no later than 130 days after the date on which this investigation was initiated, i.e., August 24, 2020. Pursuant to section 705(a)(1) of the Act and 19 CFR 351.210(b)(1), the deadline for the final determination of this investigation will continue to be 75 days after the date of the preliminary determination, unless postponed at a later date.

³ The petitioner is Worthington Industries.

⁴ See Petitioner's Letter, “Certain Non-Refillable Steel Cylinders from the People's Republic of China—Petitioner's Request to Postpone Preliminary Determination,” dated May 22, 2020.

⁵ Id.

Notification to Interested Parties

This notice is issued and published pursuant to section 703(c)(2) of the Act and 19 CFR 351.205(f)(1).

Dated: May 27, 2020.
Jeffrey I. Kessler,
Assistant Secretary for Enforcement and Compliance.

[FR Doc. 2020-11863 Filed 6-1-20; 8:45 am]

BILLING CODE 3510-DS-P